DEPARTMENT OF JUSTICE

National Institute of Corrections

Solicitation for a cooperative agreement—Regional Meetings on Prison Workforce Issues

AGENCY: National Institute of Corrections, U.S. Department of Justice.

ACTION: Solicitation for a cooperative agreement.

SUMMARY: The Department of Justice (DOJ), National Institute of Corrections (NIC), announces the availability of funds in FY 2000 for a cooperative agreement to provide funding for conducting four regional one and a half (1½) day meetings to identify critical issues that impact the effectiveness of the prison workforce as well as innovative strategies to assist correctional departments in meeting their human resource needs.

Background

Baby Boomers, Generation X, and Gray Panthers are a few of the identified groups changing the profile of the workplace. With unprecedented growth in technology and high competition for workers, many correctional agencies are finding it increasingly difficult to recruit and retain staff. Even when staff are hired, there are a variety of differences in the work ethic of these workers. A number of systems have even been faced with building institutions and then having them sit idle because of lack of staff. In other instances, systems have expanded so rapidly that staff with minimal or limited experience are being “prematurely promoted” to manage this eclectic workforce. With these varying dilemmas impacting the prison workforce, it is imperative that agencies find out what is working and what is not regarding the human resource aspect of managing prison systems.

Private industry and other government entities are likewise facing challenges in a variety of workforce areas. Some have implemented innovative approaches (such as training contracts, paid educational advancement, etc.) that are providing at least somewhat successful. Learning how to identify and implement innovative strategies for today's workforce, and especially recommendations for 24-hour operations located in rural settings, is the goal of these discussion or “focus” groups.

A total of $79,600 is reserved for this project which will support one cooperative agreement for a 9 month period. The recipient of the award will be selected through a competitive solicitation process. BeLinda Watson Barney is the designated NIC project manager.

Project Scope: The goals of this cooperative agreement include the following:

• Identification and selection of sites for the four (4) regional meetings.

• Manage all logistical planning for the four (4) regional meetings and manage on-site logistics.

• Identify a format, discussion points and facilitators for the discussion groups.

• Identify potential participants for the discussion groups.

• Develop a summary report of the findings from the regional meetings.

All work on this project will be done in collaboration with NIC who will retain final approval on all aspects of these meetings. All travel for meetings will be funded, arranged and managed by the recipient of this award.

Specific Requirements: The successful applicant will propose a project approach that will ensure accomplishment of each of the stated goals of this project. At a minimum, the following requirements will be met in pursuit of the stated goals:

• Selection of participants that include corrections, other government and private sector representatives who can contribute to a discussion of how to address workforce issues in corrections or who can provide examples of innovative strategies used in their own sector.

• Focus of the discussion should be in identifying solutions (as opposed to listing problems).

• Compilation of findings and summary of issues raised at the regional meetings, including recommendations for further work/assistance by NIC.

• Coordination with the NIC project director at critical points in project development and as necessary to ensure clarity and accomplishments of goals and a satisfactory outcome.

Additional, specific requirements related to the training package are as follows:

Following review in draft form by the project coordinator, the summary report must be professionally edited and submitted in camera-ready hard copy and 3.5” computer disk or zip drive disk using WordPerfect 7.0 or higher software for use with IBM compatible computers with Windows operating systems.

It will be the responsibility of the award recipient to secure written approval to use any copyrighted materials or photographs and to provide the original approval with the documents.

Authority: Public Law 93-415.

Funds Available: The award will be limited to a maximum of $79,600 (direct and indirect costs) and project activity must be completed within 9 months of the date of award. Funds may not be used for construction, or to acquire or build real property. This project will be a collaborative venture with the NIC Prisons Division.

Application Requirements: Applicants are required to submit a proposal that specifically defines their plan for meeting the goals and objectives of this project. The proposal must: provide a detailed plan that describes the methodology to be used in pursuing the project goals, including a timetable for accomplishment of objectives and criteria for selection of work group participants; demonstrate a knowledge of current workforce issues in the public and private sectors, including an awareness of agencies or organizations that have implemented innovative workforce strategies; and identify project staff who have made a commitment of time to this project and the specific skills they possess that will support the endeavors of the project. The conceptual framework of the proposal must demonstrate the applicants understanding of the nature of government employment practices and specifically, those that pertain to the correctional workforce.

Funding for this project has been established at $79,600. The applicant must provide a budget and budget narrative that clearly identifies the allocation of funds for achievement of the goals of the cooperative agreement. The rationale for the expenditures must be provided in the budget narrative unless patently obvious in the proposal.

Deadline for Receipt of Applications: Applications must be received by 4:00 p.m., EDT, on Friday, June 30, 2000. They should be addressed to: Director, National Institute of Corrections, 320 First Street, NW, Room 5007, Washington, DC 20534. Hand delivered applications should be brought to 500 First Street, NW, Washington, DC 20534. The front desk will call Bobbi Tinsley at (202) 307-3106, extension 0 for pickup.

Addresses and Further Information: Requests for the application kit, should be directed to Judy Evens, Cooperative Agreement Control Office, National Institute of Corrections, 320 First Street, N.W., Room 5007, Washington, D.C. 20534 or by calling 800-995-6423, ext. 159, 202-307-3106, ext. 159, or email: jevens@bop.gov. A copy of this announcement and application forms may also be obtained through the NIC web site: http//www.nicic.org (click on “What's New” and “Cooperative Agreements”). All technical and/or programmatic questions concerning this announcement should be directed to BeLinda Watson Barney at the above address or by calling 800-995-6423 or 202-307-1300, ext. 152, or by E-mail via bbarney@bop.gov.

Project Completion: The award recipient will be responsible to submit all required reports and corrections or revisions of materials in a timely manner. The project period is 9 months from the date of the award and the project will not be deemed to have been completed until a final draft is accepted by the project coordinator.

Eligible Applicants: An eligible applicant is any state or general unit of local government, public or private, educational institution, organization, team, or individual with the requisite skills to successfully meet the outcome objectives of the project.

Review Considerations: Applications received under this announcement will be subjected to an NIC 3 to 5 member Peer Review Process. It is anticipated that the award will be made within 60-90 days following the application due date.

Number of Awards: One (1).

NIC Application Number: 00P06 This number should appear as a reference line in your cover letter and also in box 11 of Standard Form 424.

Executive Order 12372: This program is subject to the provisions of Executive Order 12372. Executive Order 12372 allows States the option of setting up a system for reviewing applications from within their States for assistance under certain Federal programs. Applicants (other than Federally-recognized Indian tribal governments) should contact their State Single Point of Contact (SPOC), a list of which is included in the application kit, along with further instructions on proposed projects serving more than one State.

Catalog of Federal Domestic Assistance Number: 16.603.
Dated: May 25, 2000.
Morris L. Thigpen,
Director, National Institute of Corrections.

[FR Doc. 00-13666 Filed 5-31-00; 8:45 am]

BILLING CODE 4410-36-M